DEPARTMENT OF HEALTH AND HUMAN SERVICES

Office of Refugee Resettlement

[C.F.D.A. Number: 93.566]

Notice of FY 2013 Refugee Social Services Formula Awards to States and Wilson/Fish Alternative Project Grantees

AGENCY: Office of Refugee Resettlement, ACF, HHS.

ACTION: Notice of awards.

SUMMARY: The Office of Refugee Resettlement (ORR), Administration for Children and Families (ACF), announces the allocation of Refugee Social Services formula awards to States and Wilson/Fish Alternative Project grantees.

The FY 2013 formula allocations for Social Services are available on ORR's Web site at: http://www.acf.hhs.gov/programs/orr/spotlight#announcements.

DATES: The awards are effective immediately.

FOR FURTHER INFORMATION CONTACT: Henley Portner, Office of the Director, Office of Refugee Resettlement, (202) 401-5363, Henley.Portner@acf.hhs.gov.

SUPPLEMENTARY INFORMATION: The purpose of the Refugee Social Services program is to provide employability services, English language training, case management, social adjustment services, interpretation and translation services, and other resettlement services to refugees, Amerasians, asylees, Cuban and Haitian entrants, victims of trafficking, and Iraqis and Afghans with Special Immigrant Visas. The awards are determined by the number of the eligible populations residing in the State during the two-year period from October 1, 2010, to September 30, 2012. States with allocations under $100,000 through this calculation instead receive floor allocations ranging from $75,000 to $100,000 depending on the number of the eligible population in each State. The purpose of the floor allocations is to ensure that all participating States receive an award sufficient to maintain a program of resettlement services.

Funds must be obligated by September 30, 2014, and funds must be expended by September 30, 2015.

ACF reminds recipients and members of the public that a Federal Register notice, concerning a change in procedures that requires electronic submission of State/Tribal plans and reporting, is open for comment through August 27, 2013. The notice is available in Federal Register, Volume 78, No. 125, published on June 28, 2013, and at http://www.gpo.gov/fdsys/pkg/FR-2013-06-28/pdf/2013-15465.pdf.

Statutory Authority: Sections 412(c)(1)(B) of the Immigration and Nationality Act (INA) (8 U.S.C. 1522(c)(1)(B))

Eskinder Negash,
Director, Office of Refugee Resettlement.

[FR Doc. 2013-20377 Filed 8-20-13; 8:45 am]

BILLING CODE 4184-46-P